DEPARTMENT OF LABOR

Employment and Training Administration

Comment Request for Information Collection for State Integrated Workforce Plan Requirements for Workforce Investment Act of 1998 (WIA), Wagner-Peyser Act, and Department of Labor Workforce Programs, and for Unified Plan Requirements; Extension with Revisions

AGENCY: Employment and Training Administration, Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format; the reporting burden (time and financial resources) is minimized; collection instruments are clearly understood; and the impact of collection requirements on respondents can be properly assessed. Currently, the Employment and Training Administration (ETA) is soliciting comments concerning the collection of data for State Integrated Workforce Plan Requirements for Workforce Investment Act/Wagner-Peyser Act and Department of Labor Workforce Programs, and for Unified Plan Requirements. The State Integrated Workforce Plan Requirements substantially revise and replace the former WIA/Wagner-Peyser “stand-alone” planning guidance, formerly entitled “Planning Guidance and Instructions for Submission of the Strategic State Plan for title I of the Workforce Investment Act of 1998 (WIA) and the Wagner-Peyser Act.” The new requirements also include data collection for the Migrant and Seasonal Farmworker (MSFW) Annual Outreach Plan (AOP), Trade Adjustment Assistance (TAA), and Senior Community Service Employment Program (SCSEP) State Plans. SCSEP plans may now be optionally included in the State Integrated Workforce Plan submission. While these new requirements provide an option for states to integrate DOL-funded programs into a single plan, it does not replace Unified Plan guidance that exists under this same control number 1205-0398.

A copy of the proposed information collection request (ICR) can be obtained at http://www.doleta.gov/usworkforce/wia-planning or by contacting the office listed below in the addressee section of this notice.

DATES: Written comments must be submitted to the office listed in the addressee's section below on or before September 19, 2011.

ADDRESSES: Submit written comments to Kimberly Vitelli, Office of Workforce Investment, U.S. Department of Labor, 200 Constitution Avenue, NW., Room C-4510, Washington, DC 20210, Telephone number: (202) 693-3045 (this is not a toll-free number). Fax: (202) 693-3015. E-mail: Vitelli.Kimberly@dol.gov.

SUPPLEMENTARY INFORMATION:

I. Background

The Workforce Investment Act of 1998 (WIA) requires states to submit either a “stand-alone” strategic plan for title I of the Workforce Investment Act of 1998 and the Wagner-Peyser Act (WIA Section 112), or a Unified Plan with partner programs (WIA Section 192). States also may submit requests for waivers and work-flex as parts of the Strategic State Plan. The State Integrated Workforce Plan requirements provide a framework for the collaboration of governors, local elected officials, businesses, and other partners to continue the development of workforce investment systems that address customer needs, deliver integrated user-friendly services, and are accountable to the customers and the public. This proposed data collection extension revises and replaces “stand-alone” planning guidance last published December 1, 2008, in the Federal Register. Training and Employment Guidance Letter (TEGL) No. 17-10 (Instructions for Submitting Workforce Investment Act and Wagner-Peyser Act State Plans and Waiver Requests for Program Year 2011) described ETA's intention to update and redesign the plan guidance, and to publish revised guidance for use in Program Year 2012, which begins July 1, 2012. In consultation with multiple stakeholders, ETA revised that guidance and now seeks public comment on it. The Unified Plan guidance that is part of this proposed data collection extension contains minor revisions, and may be revised in future years.

The changes to this collection include:

(1) In both the Integrated Workforce Plan and Unified Plan requirements, removed the national strategic direction. ETA now publishes the agency's strategic direction in guidance letters. ETA's strategic direction was comprehensively discussed in TEGL No. 14-08, and policy direction was further communicated in additional TEGLs since.

(2) In the Integrated Workforce Plan requirements, streamlined and reduced the state plan collection elements to those required by statute or regulation.

(3) In the Integrated Workforce Plan requirements, reorganized the State Plan requirements into three key sections: the Strategic Plan, the Operational Plan, and Assurances. A significant portion of previously required narrative elements have been replaced by Assurances and allow for inclusion of state policy attachments or Web links.

(4) In the Integrated Workforce Plan requirements, added optional planning requirements for SCSEP to allow states to better integrate planned workforce activities with WIA and Wagner-Peyser programs and to optionally submit only one plan to ETA for its programs. State Integrated Workforce Plan submissions that include SCSEP with the WIA/Wagner-Peyser State Plan submission do not need to submit a standalone plan for that program.

(5) In the Integrated Workforce Plan guidance, included the Wagner-Peyser Agricultural Outreach Plan for provision of equivalent and quantitatively proportionate services for MSFWs, as required by Wagner-Peyser regulations, and TAA planning requirements.

(6) In both the Integrated Workforce Plan and Unified Plan requirements, added instructions on how to submit waiver and work-flex requests.

(7) In both the Integrated Workforce Plan and Unified Plan guidance, eliminated assurances that were duplicative of those that states sign in annual grant agreements, such as uniform administrative requirements.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

Type of Review: Extension with revisions.

Title: State Integrated Workforce Plan Requirements for Workforce Investment Act of 1998 (WIA), Wagner-Peyser Act, and Department of Labor Workforce Programs, and for Unified Plan Requirements.

OMB Number: 1205-0398.

Affected Public: State and local governments.

Form: See above instructions. There is no form.

Total Estimated Annual Respondents: 57.

Estimates Annual Frequency: Once per year.

Average Time per Response: 40 hours.

Estimated Total Burden Hours: 2,280 Hours.

Comments submitted in response to this comment request will be summarized and/or included in the request for Office of Management and Budget approval of the information collection request; they will also become a matter of public record.

Dated: July 12, 2011.
Jane Oates,
Assistant Secretary, Employment and Training Administration.

[FR Doc. 2011-18137 Filed 7-18-11; 8:45 am]

BILLING CODE 4510-FN-P